DEPARTMENT OF TRANSPORTATION

Federal Aviation Administration

14 CFR Part 39

[Docket No. FAA-2007-0186; Directorate Identifier 2007-NM-226-AD]

RIN 2120-AA64

Airworthiness Directives; McDonnell Douglas Model DC-10-10, DC-10-10F, DC-10-15, DC-10-30, DC-10-30F (KC-10A and KDC-10), DC-10-40, DC-10-40F, MD-10-10F, and MD-10-30F Airplanes

AGENCY: Federal Aviation Administration (FAA), Department of Transportation (DOT).

ACTION: Supplemental notice of proposed rulemaking (NPRM); reopening of comment period.

SUMMARY: The FAA is revising an earlier NPRM for an airworthiness directive (AD) that applies to certain McDonnell Douglas Model DC-10-10, DC-10-10F, DC-10-15, DC-10-30, DC-10-30F (KC-10A and KDC-10), DC-10-40, and DC-10-40F airplanes. The original NPRM would have revised an existing AD that currently requires installing or replacing with improved parts, as applicable, the bonding straps between the metallic frame of the fillet and the wing leading edge ribs, on both the left and right sides of the airplane. The original NPRM proposed to revise the applicability to clarify the identity of the affected airplanes. The original NPRM resulted from fuel system reviews conducted by the manufacturer. This new action proposes to revise the applicability to add and remove certain airplanes, and to add a requirement to reposition or replace two bonding straps for certain airplanes. This new action also proposes to supersede, rather than revise, the existing AD. We are proposing this supplemental NPRM to reduce the potential of ignition sources inside fuel tanks in the event of a severe lightning strike, which, in combination with flammable fuel vapors, could result in fuel tank explosions and consequent loss of the airplane.

DATES: We must receive comments on this supplemental NPRM by December 22, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Long Beach Division, 3855 Lakewood Boulevard, Long Beach, California 90846, Attention: Data and Service Management, Dept. C1-L5A (D800-0024); telephone (206) 544-9990; fax (206) 766-5682; e-mail DDCS@boeing.com; Internet https://www.myboeingfleet.com.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Comments Invited

We invite you to send any written relevant data, views, or arguments about this proposed AD. Send your comments to an address listed under the ADDRESSES section. Include “Docket No. FAA-2007-0186; Directorate Identifier 2007-NM-226-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We proposed to amend part 39 of the Federal Aviation Regulations (14 CFR part 39) with a notice of proposed rulemaking (NPRM) for an AD (the “original NPRM”) to revise AD 2006-16-03, amendment 39-14703 (71 FR 43962, August 3, 2006). The original NPRM applied to certain McDonnell Douglas Model DC-10-10, DC-10-10F, DC-10-15, DC-10-30, DC-10-30F (KC-10A and KDC-10), DC-10-40, and DC-10-40F airplanes, and MD-10-10F and MD-10-30F airplanes. The affected airplanes are identified by the manufacturer's fuselage numbers referenced in the applicable McDonnell Douglas DC-10 service bulletin (Service Bulletin 53-109, Revision 4, dated October 7, 1992; or Service Bulletin 53-111, Revision 3, dated August 24, 1992).

The original NPRM was published in the Federal Register on November 13, 2007 (72 FR 63836). The original NPRM proposed to revise AD 2006-16-03 to clarify the identity of the affected airplanes in the applicability.

Actions Since Original NPRM Was Issued

Since we issued the original NPRM, Boeing has revised the service bulletins. Service Bulletin DC10-53-111, Revision 5, dated March 19, 2008, and DC10-53-109, Revision 6, dated July 10, 2008, correct effectivity errors (to add and remove certain airplanes incorrectly excluded or included from previous versions). In addition, Service Bulletin DC10-53-109, Revision 5, now includes an action to reposition two bonding straps by using new bonding straps that are less susceptible to cracking. Revision 6 of Service Bulletin DC10-53-109 provides a faster and easier method, which involves replacing the straps with longer straps instead of relocating them.

The revised service bulletins have been approved by the FAA as alternative methods of compliance (AMOCs) with the requirements of AD 2006-16-03. Paragraph (i)(3) has been revised in this supplemental NPRM to include information about these AMOCs.

FAA's Determination and Proposed Requirements of the Supplemental NPRM

The changes discussed above expand the scope of the original NPRM; therefore, we have determined that it is necessary to reopen the comment period for revising AD 2006-16-03 to provide additional opportunity for public comment on this supplemental NPRM. Also, because of the expanded scope, we must supersede, rather than revise, the AD 2006-16-03.

Costs of Compliance

There are about 457 airplanes of the affected design in the worldwide fleet. The following table provides the estimated costs for U.S. operators to comply with this supplemental NPRM.

Estimated Costs
Work hours | Average labor rate per hour | Parts | Cost per airplane | Number of U.S.-registered airplanes | Fleet cost
2-17 | $80 | Up to $4,169 | Up to $5,529 | 281 | Up to $1,553,649.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14703 (71 FR 43962, August 3, 2006) and adding the following new airworthiness directive (AD):

McDonnell Douglas: Docket No. FAA-2007-0186; Directorate Identifier 2007-NM-226-AD.

Comments Due Date

(a) The FAA must receive comments on this AD action by December 22, 2008.

Affected ADs

(b) This AD supersedes AD 2006-16-03.

Applicability

(c) This AD applies to McDonnell Douglas Model DC-10-10, DC-10-10F, DC-10-15, DC-10-30, DC-10-30F (KC-10A and KDC-10), DC-10-40, and DC-10-40F airplanes, and MD-10-10F and MD-10-30F airplanes that have been converted from Model DC-10 series airplanes; certificated in any category; with manufacturer's fuselage numbers as identified in the applicable service bulletin listed in Table 1 of this AD.

Table 1—Service Bulletins
McDonnell Douglas DC-10 Service Bulletin — | Revision— | Dated— | For airplanes with—
DC10-53-109 | 6 | July 10, 2008 | Extended wing-to-fuselage fillets.
DC10-53-111 | 5 | March 19, 2008 | Conventional wing-to-fuselage fillets.

Unsafe Condition

(d) This AD results from fuel system reviews conducted by the manufacturer. We are issuing this AD to reduce the potential of ignition sources inside fuel tanks in the event of a severe lightning strike, which, in combination with flammable fuel vapors, could result in fuel tank explosions and consequent loss of the airplane.

Compliance

(e) You are responsible for having the actions required by this AD performed within the compliance times specified, unless the actions have already been done.

Restatement of Requirements of AD 2006-16-03

Installation or Replacement

(f) For airplanes with manufacturer's fuselage numbers identified in the applicable service bulletin listed in Table 2 of this AD: Within 7,500 flight hours or 60 months after September 7, 2006 (the effective date of AD 2006-16-03), whichever occurs earlier: Install or replace with improved parts, as applicable, the bonding straps between the metallic frame of the fillet and the wing leading edge ribs, on both the left and right sides of the airplane, in accordance with the Accomplishment Instructions of the applicable service bulletin identified in Table 1 or Table 2 of this AD.

Table 2—Fuselage Numbers Affected by AD 2006-16-03
McDonnell Douglas DC-10 Service Bulletin— | Revision— | Dated— | For airplanes with—
53-109 | 4 | October 7, 1992 | Extended wing-to-fuselage fillets.
53-111 | 3 | August 24, 1992 | Conventional wing-to-fuselage fillets.

New Requirements of This AD

Installation or Replacement

(g) For airplanes with fuselage numbers not identified in Table 2 of this AD: Within 7,500 flight hours or 60 months, whichever occurs first after the effective date of this AD, install or replace with improved parts, as applicable, the bonding straps between the metallic frame of the fillet and the wing leading edge ribs, on both the left and right sides of the airplane, and reposition two bonding straps. Do the actions in accordance with the Accomplishment Instructions of the applicable service bulletin identified in Table 1 of this AD.

Strap Repositioning for Certain Airplanes

(h) For Configuration 3 airplanes, as identified in McDonnell Douglas DC-10 Service Bulletin DC10-53-109, Revision 6, dated July 10, 2008: Within 7,500 flight hours or 60 months, whichever occurs first after the effective date of this AD, reposition two bonding straps, in accordance with the Accomplishment Instructions of the service bulletin.

Alternative Methods of Compliance (AMOCs)

(i)(1) The Manager, Los Angeles Aircraft Certification Office (ACO), FAA, ATTN: Samuel Lee, Aerospace Engineer, Samuel Lee, Aerospace Engineer, Propulsion Branch, ANM-140L, FAA, Los Angeles Aircraft Certification Office, 3960 Paramount Boulevard, Lakewood, California 90712-4137; telephone (562) 627-5262; fax (562) 627-5210; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-16-03 are approved as AMOCs for the corresponding provisions of this AD. McDonnell Douglas DC-10 Service Bulletins DC10-53-109 and DC10-53-111, both Revision 5, both dated March 19, 2008, and Service Bulletin DC10-53-109, Revision 6, dated July 10, 2008, have been approved by the FAA as an AMOC with the requirements of AD 2006-16-03.

Issued in Renton, Washington, on November 16, 2008.
Stephen P. Boyd,
Assistant Manager, Transport Airplane Directorate, Aircraft Certification Service.

[FR Doc. E8-28129 Filed 11-25-08; 8:45 am]

BILLING CODE 4910-13-P